DEPARTMENT OF COMMERCE

International Trade Administration

Multi-Sector Trade Mission to Nigeria

AGENCY: International Trade Administration, Department of Commerce.

ACTION: Notice.

Mission Statement: Multi-Sector Trade Mission to Nigeria, March 8-10, 2011

I. Mission Description

The United States Department of Commerce, International Trade Administration, U.S. Commercial Service is organizing a Trade Mission to Nigeria March 8-10, 2011, to help U.S. firms find business partners and sell equipment and services in Lagos and Abuja, Nigeria. Targeted sectors include, but are not limited to, energy and power generation, health care, information technology, transportation and construction. This mission will be led by a senior official and will include business-to-business matchmaking with local companies, market briefings, and meetings with key government officials.

II. Commercial Setting

In 2009, the Nigerian economy was among the top 20 fastest growing in the world at 6+%, and is one of the two largest economies in Africa. The International Monetary Fund projects Nigeria's economy to continue to grow at 6+% for the next 4 years. With a population of 150 million people, the largest in Africa and 8th largest in the world, Nigeria has a thriving consumer market. Total U.S.-Nigeria trade did fall from $3.4 trillion to $2.6 trillion in 2008 and 2009 but is expected to surge in conjunction with Nigeria's growing economy. U.S. exports to Nigeria in 2009 consisted mostly of cereals, vehicles, machinery, fuel and aircraft.

There is significant business potential for U.S. businesses willing to conduct due diligence and draw on Commercial Service assistance in screening prospective partners and customers in Nigeria.

Nigerians prefer U.S. products due to quality, name brand recognition and seek competitive pricing. The business culture relies heavily on the strength of personal contacts to consummate deals. This trade mission offers U.S. company representatives an excellent introduction to a broad range of credible Nigerian business partners and Nigerian officials.

Best Prospects

Energy: At 20% of GDP, the oil and gas industry continues to dominate the Nigerian economy. With an estimated 36.24 billion barrels of oil, Nigeria has the 10th largest proven oil reserves in the world. It also has the 8th largest proven gas reserves with an estimated 187 trillion standard cubic feet. In addition, Nigeria is the 12th largest market for U.S. oil and gas equipment sales. A recent Government of Nigeria (GON) directive will require the end of gas flaring on December 31, 2010. Compliance with this GON directive potentially could create a lucrative market for U.S. industry. The estimated life expectancy of Nigeria's proven crude oil reserve is 35 years, while that of gas is over 100, ensuring that the oil and gas industry will continue to offer lucrative opportunities in oil and natural gas equipment and services. The President and Minister for Power have unveiled a roadmap for reform of the power sector (http://www.nigeriapowerreform.org) which will provide concrete opportunities for U.S. suppliers over the next two-three years in the power generation and distribution sectors. Note: Companies interested in this sector of the Nigerian economy should take into account ongoing security issues in and around the oil fields in the Niger delta for pricing and delivery purposes.

Healthcare: In 2006, the GON spent $1.2 billion per year on health care and plans to increase spending as it reforms Nigeria's healthcare policies and rebuilds health care infrastructure. Industry watchers and analysts indicate potential opportunities for U.S. suppliers and manufacturers of cutting-edge medical equipment used especially for medical examination, on-line training and telemedicine, particularly for complex and difficult operations where international expertise is needed.

Information Technology: The success of Nigeria's telecommunications industry subsector is fueling demand for computers, software, peripherals and professional services such as electronic banking, internet services, e-learning, e-government, e-health and digital security services. Current bandwidth in Nigeria is provided through the SAT-3 cable of 350 gigabits. Two additional broadband cables are expected to increase the broadband capacity by 2.6 terabits for a total of almost 3.0 terabits for the entire country in the coming year. With over 1,800 licenses managed by the Nigerian Communications Commission (NCC), the market generated about $10 billion in telecommunications services revenue in 2009 and recorded an average annual growth rate of about 30 percent.

Transportation: The United States currently accounts for more than 70% of all categories of automobiles supplied to Nigeria, most of which are used cars and trucks. The government of Nigeria continues to fund efficiency efforts for the aeronautics and aviation industries. The transport ministry (aviation division) is planning to fix, purchase and install additional navigation and landing aids for the airports across the country within a short period of time, as there has been an increase in air transportation in the country with more aviation companies joining the sector. In addition, the Federal Airport Authority of Nigeria (FAAN) stated recently that five new terminals are to be built in Lagos, Abuja, Kano, Port Harcourt and Enugu. The United States Federal Aviation Administration granted Nigeria Category 1 status under the international aviation safety assessment program, which means a country has the laws and regulations necessary to oversee air carriers in accordance with minimum international standards, and that its civil aviation authority—equivalent to the FAA for aviation safety matters—meets international standards for technical expertise, trained personnel, recordkeeping and inspection procedures.

Construction: There are also plans to construct or reconstruct existing expressways as well as over 40 separate dredging and related projects scattered in the Niger-Delta region. State governments have also awarded major contracts to provide infrastructure, including railroad and housing in major cities as well as creating new settlements in urban areas. It is also expected that the GON will upgrade the major seaports in Nigeria as well as set up Free Trade Zones where importation of equipment and heavy machinery can easily be undertaken.

III. Mission Goals

The goal of the Nigeria Trade Mission is to provide U.S. participants with first-hand market information, access to government decision makers, and one-on-one meetings with business contacts, including potential agents, distributors and partners, so they can position themselves to enter or expand their presence in the Nigerian market. A presence in Nigeria can be used to enter other West African markets, allowing for better market penetration/saturation.

IV. Mission Scenario

The Nigeria Trade Mission will visit both the commercial center and political capital of Nigeria: Lagos and Abuja, to give participants access to decision makers in Nigeria. In each city, participants will meet with new business contacts.

Proposed Timetable

Day of week | Date | Activity
Monday | March 7, Lagos | Arrive in Lagos, Nigeria.
Tuesday | March 8, Lagos | Mission Meetings Officially Start.
|  | Breakfast briefing from Lagos Consulate staff.
|  | One-on-one business appointments.
|  | Evening business reception.
Wednesday | March 9, Lagos/Abuja | One-on-one business appointments continue. Afternoon departure for Abuja.
Thursday | March 10, Abuja | Briefing by Abuja Embassy Staff.
|  | One-on-one business and government meetings.
|  | Trade Mission Officially Ends.

*Note: The final schedule and potential site visits will depend on the availability of local government and business officials, specific goals of mission participants, and air travel schedules.

V. Participation Requirements

All applicants will be evaluated on their ability to meet certain conditions and best satisfy the selection criteria as outlined below. The mission is designed for a minimum of 12 and a maximum of 18 to participate in the mission from the applicant pool. U.S. companies already doing business in the target markets as well as U.S. companies seeking to enter these markets for the first time are encouraged to apply.

Fees and Expenses

After a company has been selected to participate on the mission, a participation fee to the U.S. Department of Commerce is required. The participation fee for one representative is $2,975 for a small or medium-sized enterprise (SME) ¹ and $3,515 for large firms. The fee for each additional firm representative (SME or large) is $450. Expenses for travel, lodging, some meals, and incidentals will be the responsibility of each mission participant.

¹ An SME is defined as a firm with 500 or fewer employees or that otherwise qualifies as a small business under SBA regulations. See http://www.sba.gov/contractingopportunities/owners/basics/whatismallbusiness/index.html. Parent companies, affiliates, and subsidiaries will be considered when determining business size. The dual pricing reflects the Commercial Service's user fee schedule that became effective May 1, 2008. See http://www.export.gov/newsletter/march2008/initiatives.html.

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the mission goals.

• Applicant's potential for business in Nigeria, including likelihood of exports resulting from the mission.

• Consistency of the applicant's goals and objectives with the stated scope of the mission.

Diversity of company size, sector or subsector, and location may also be considered during the review process.

Referrals from political organizations and any documents containing references to partisan political activities (including political contributions) will be removed from an applicant's submission and not considered during the selection process.

VI. Selection Timeline

Mission recruitment will be conducted in an open and public manner, including publication in the Federal Register, posting on the Commerce Department trade mission calendar— http://www.ita.doc.gov/doctm/tmcal.html—and other Internet Web sites, press releases to general and trade media, direct mail, broadcast fax, notices by industry trade associations and other multiplier groups, and publicity at industry meetings, symposia, conferences, and trade shows.

Recruitment for the mission will begin immediately, and conclude January 18, 2011. Applications received after January 18, 2011, will be considered only if space and scheduling constraints permit.

Contacts:

Ryan Kane, International Trade Specialist, U.S. Commercial Service, Washington, DC 20230, Tel: 202-482-5740, Fax: 202-482-9000, E-mail: ryan.kane@trade.gov.

Rebecca Armand, Senior Commercial Officer, U.S. Consulate, Lagos, Nigeria, Tel: 234-1-460-358, E-mail: Rebecca.Armand@trade.gov.

Ryan Kane,
Global Trade Programs, Commercial Service Trade Missions Program.

[FR Doc. 2010-23028 Filed 9-15-10; 8:45 am]

BILLING CODE P